DEPARTMENT OF AGRICULTURE

Office of the Secretary

2 CFR Subtitle B, Ch. IV

5 CFR Ch. LXXIII

7 CFR Subtitle A; Subtitle B, Chs. I-XI, XIV-XVIII, XX, XXV-XXXVIII, XLII

9 CFR Chs. I-III

36 CFR Ch. II

48 CFR Ch. 4

Semiannual Regulatory Agenda, Spring 2018

AGENCY: Office of the Secretary, USDA.

ACTION: Semiannual regulatory agenda.

SUMMARY: This agenda provides summary descriptions of the significant and not significant regulatory and deregulatory actions being developed in agencies of the U.S. Department of Agriculture (USDA) in conformance with Executive orders (E.O.) 12866 “Regulatory Planning and Review,” 13563, “Improving Regulation and Regulatory Review,” 13771 “Reducing Regulation and Controlling Regulatory Costs,” and 13777, “Enforcing the Regulatory Reform Agenda.” The agenda also describes regulations affecting small entities as required by section 602 of the Regulatory Flexibility Act, Public Law 96-354. This agenda also identifies regulatory actions that are being reviewed in compliance with section 610(c) of the Regulatory Flexibility Act. We invite public comment on those actions as well as any regulation consistent with Executive Order 13563.

USDA has attempted to list all regulations and regulatory reviews pending at the time of publication except for minor and routine or repetitive actions, but some may have been inadvertently missed. There is no legal significance to the omission of an item from this listing. Also, the dates shown for the steps of each action are estimated and are not commitments to act on or by the date shown.

USDA's complete regulatory agenda is available online at www.reginfo.gov. Because publication in the Federal Register is mandated for the regulatory flexibility agendas required by the Regulatory Flexibility Act (5 U.S.C. 602), USDA's printed agenda entries include only:

(1) Rules that are likely to have a significant economic impact on a substantial number of small entities; and

(2) Rules identified for periodic review under section 610 of the Regulatory Flexibility Act.

FOR FURTHER INFORMATION CONTACT: For further information on any specific entry shown in this agenda, please contact the person listed for that action. For general comments or inquiries about the agenda, please contact Michael Poe, Office of Budget and Program Analysis, U.S. Department of Agriculture, Washington, DC 20250, (202) 720-3257.

Dated: February 28, 2018.
Michael Poe,
Legislative and Regulatory Staff.

Agricultural Marketing Service—Proposed Rule Stage
Sequence No. | Title | Regulation Identifier No.
1 | National Bioengineered Food Disclosure Standard | 0581-AD54

Agricultural Marketing Service—Completed Actions
Sequence No. | Title | Regulation Identifier No.
2 | National Organic Program, Origin of Livestock | 0581-AD08
3 | National Organic Program, Organic Pet Food Standards | 0581-AD20
4 | National Organic Program; Sunset Review (2012) for Sodium Nitrate | 0581-AD22
5 | National Organic Program, Organic Apiculture Practice Standard | 0581-AD31
6 | NOP; Organic Livestock and Poultry Practices | 0581-AD44
7 | Growers' Trust Protection Eligibility and the Clarification of “Written Notifications” as Set Forth in Section 6(b) of the PACA | 0581-AD50
8 | Organic Research, Promotion, and Information Order/Referendum Procedures | 0581-AD55
9 | NOP—Organic Livestock and Poultry Practices—Withdrawal | 0581-AD75

Animal and Plant Health Inspection Service—Proposed Rule Stage
Sequence No. | Title | Regulation Identifier No.
10 | Branding Requirements for Bovines Imported Into the United States From Mexico | 0579-AE38
11 | Removal of Emerald Ash Borer Domestic Quarantine Regulations | 0579-AE42

Animal and Plant Health Inspection Service—Final Rule Stage
Sequence No. | Title | Regulation Identifier No.
12 | Plant Pest Regulations; Update of General Provisions | 0579-AC98
13 | Bovine Spongiform Encephalopathy and Scrapie; Importation of Small Ruminants and Their Germplasm, Products, and Byproducts | 0579-AD10
14 | Establishing a Performance Standard for Authorizing the Importation and Interstate Movement of Fruits and Vegetables | 0579-AD71
15 | Importation of Fresh Citrus Fruit From the Republic of South Africa Into the Continental United States | 0579-AD95
16 | Animal Welfare; Establishing De Minimis Exemptions From Licensing | 0579-AD99
17 | VSTA Records and Reports Specific to International Standards for Pharmacovigilance | 0579-AE11
18 | Conditions for Payment of Highly Pathogenic Avian Influenza Indemnity Claims | 0579-AE14

Animal and Plant Health Inspection Service—Completed Actions
Sequence No. | Title | Regulation Identifier No.
19 | Restructuring of Regulations on the Importation of Plants for Planting | 0579-AD75
20 | Importation of Campanula Spp. Plants for Planting in Approved Growing Media From Denmark to the United States | 0579-AE31

Food Safety and Inspection Service—Final Rule Stage
Sequence No. | Title | Regulation Identifier No.
21 | Elimination of Trichina Control Regulations and Consolidation of Thermally Processed, Commercially Sterile Regulations | 0583-AD59

DEPARTMENT OF AGRICULTURE (USDA)

Agricultural Marketing Service (AMS)

Proposed Rule Stage

1. National Bioengineered Food Disclosure Standard

E.O. 13771 Designation: Other.

Legal Authority: Pub. L. 114-216; 7 U.S.C. 1621 to 1627

Abstract: On July 29, 2016, the Agricultural Marketing Act of 1946 was amended to establish a National Bioengineered Food Disclosure Standard (Law) (Pub. L. 114-216). Pursuant to the law, this NPRM will propose requirements that, if finalized, will serve as a national mandatory bioengineered food disclosure standard for bioengineered food and food that may be bioengineered.

Timetable:

Action | Date | FR Cite
NPRM | 05/00/18 |
Final Action | 07/00/18 |

Regulatory Flexibility Analysis Required: Yes.

Agency Contact: Arthur Neal, Deputy Administrator, Transportation and Marketing, Department of Agriculture, Agricultural Marketing Service, Washington, DC 20250, Phone: 202 692-1300.

RIN: 0581-AD54

DEPARTMENT OF AGRICULTURE (USDA)

Agricultural Marketing Service (AMS)

Completed Actions

2. National Organic Program, Origin of Livestock

E.O. 13771 Designation:

Legal Authority: 7 U.S.C. 6501

Abstract: The current regulations provide two tracks for replacing dairy animals which are tied to how dairy farmers transition to organic production. Farmers who transition an entire distinct herd must thereafter replace dairy animals with livestock that has been under organic management from the last third of gestation. Farmers who do not transition an entire distinct herd may perpetually obtain replacement animals that have been managed organically for 12 months prior to marketing milk or milk products as organic. The proposed action would eliminate the two-track system and require that upon transition, all existing and replacement dairy animals from which milk or milk products are intended to be sold, labeled, or represented as organic must be managed organically from the last third of gestation.

Completed:

Reason | Date | FR Cite
Withdrawn | 03/01/18 |

Regulatory Flexibility Analysis Required: Yes.

Agency Contact: Jennifer Tucker, Phone: 202 720-3252.

RIN: 0581-AD08

3. National Organic Program, Organic Pet Food Standards

E.O. 13771 Designation:

Legal Authority: 7 U.S.C. 6501

Abstract: The National Organic Program (NOP) establishes national standards governing the marketing of organically produced agricultural products. In 2004, the National Organic Standards Board (NOSB) initiated the development of organic pet food standards, which had not been incorporated into the NOP regulations, by forming a task force which included pet food manufacturers, organic consultants, etc. Collectively, these experts drafted organic pet food standards consistent with the Organic Foods Production Act of 1990, Food and Drug Administration requirements, and the Association of American Feed Control Officials Model Regulations for Pet and Specialty Pet Food. The Association of American Feed Control Officials regulations are scientifically based regulations for voluntary adoption by State jurisdictions to ensure the safety, quality, and effectiveness of feed. In November 2008, the NOSB approved a final recommendation for organic pet food standards incorporating the provisions drafted by the pet food task force.

Completed:

Reason | Date | FR Cite
Withdrawn | 03/01/18 |

Regulatory Flexibility Analysis Required: Yes.

Agency Contact: Jennifer Tucker, Phone: 202 720-3252.

RIN: 0581-AD20

4. National Organic Program; Sunset Review (2012) for Sodium Nitrate

E.O. 13771 Designation:

Legal Authority: 7 U.S.C. 6501

Abstract: This action proposes to amend the listing for sodium nitrate on the National List of Allowed and Prohibited Substances as part of the 2012 sunset review process. Consistent with the recommendation from the National Organic Standards Board, this amendment would prohibit the use of the substance in its entirety from organic crop production.

Completed:

Reason | Date | FR Cite
Withdrawn | 03/01/18 |

Regulatory Flexibility Analysis Required: Yes.

Agency Contact: Melissa Bailey, Phone: 202 720-6394, Email: melissa.bailey@usda.gov.

RIN: 0581-AD22

5. National Organic Program, Organic Apiculture Practice Standard

E.O. 13771 Designation:

Legal Authority: 7 U.S.C. 6501

Abstract: This action proposes to amend the USDA organic regulations to reflect an October 2010 recommendation submitted to the Secretary by the National Organic Standards Board (NOSB) concerning the production of organic apicultural (or beekeeping) products.

Completed:

Reason | Date | FR Cite
Withdrawn | 03/01/18 |

Regulatory Flexibility Analysis Required: Yes.

Agency Contact: Jennifer Tucker, Phone: 202 720-3252.

RIN: 0581-AD31

6. NOP; Organic Livestock and Poultry Practices

E.O. 13771 Designation: Other.

Legal Authority: 7 U.S.C. 6501 to 6522

Abstract: This action would establish standards that support additional practice standards for organic livestock and poultry production. This action would add provisions to the USDA organic regulations to address and clarify livestock and poultry living conditions (for example, outdoor access, housing environment, and stocking densities), health care practices (for example physical alterations, administering medical treatment, and euthanasia), and animal handling and transport to and during slaughter.

Completed:

Reason | Date | FR Cite
Final Rule Effective | 05/14/18 |
Withdrawn | 03/13/18 | 83 FR 10775

Regulatory Flexibility Analysis Required: Yes.

Agency Contact: Jennifer Tucker, Phone: 202 720-3252.

RIN: 0581-AD44

7. Growers' Trust Protection Eligibility and the Clarification of “Written Notifications” as Set Forth in Section 6(b) of the PACA

E.O. 13771 Designation: Not subject to, not significant.

Legal Authority: 7 U.S.C. 499

Abstract: The proposed revisions to the regulations would provide greater direction to growers that employ growers' agents on how they may preserve their trust rights under the Perishable Agricultural Commodities Act (PACA). The proposed revisions would also clarify the definition of written notification and the jurisdiction of the USDA to investigate alleged violations under the PACA.

Completed:

Reason | Date | FR Cite
Final Action | 02/06/18 | 83 FR 5175
Final Action Effective | 03/08/18 |

Regulatory Flexibility Analysis Required: Yes.

Agency Contact: Judith Wey Rudman, Phone: 202 720-9404, Email: judithw.rudman@ams.usda.gov.

RIN: 0581-AD50

8. Organic Research, Promotion, and Information Order/Referendum Procedures

E.O. 13771 Designation: Not subject to, not significant.

Legal Authority: 7 U.S.C. 7411 to 7425; 7 U.S.C. 7401

Abstract: This rule invites comments on a proposed national research and promotion (R&P) program for certified organic products. The proposed program would cover the range of organic products that are certified and sold per the Organic Foods Production Act and its implementing regulations as well as organic products imported into the U.S. under an organic equivalency arrangement.

Completed:

Reason | Date | FR Cite
Withdrawn | 01/22/18 |

Regulatory Flexibility Analysis Required: Yes.

Agency Contact: Heather Pichelman, Phone: 202 720-9915.

RIN: 0581-AD55

9. NOP—Organic Livestock and Poultry Practices—Withdrawal

E.O. 13771 Designation: Deregulatory.

Legal Authority: 7 U.S.C. 6501 to 6522

Abstract: This final rule withdraws the Organic Livestock and Poultry Practices final rule, published on January 19, 2017.

Completed:

Reason | Date | FR Cite
NPRM | 12/18/17 | 82 FR 59988
Final Rule; Withdrawal | 03/13/18 | 83 FR 10775
Final Rule Withdrawal Effective | 05/13/18 |

Regulatory Flexibility Analysis Required: Yes.

Agency Contact: Jennifer Tucker, Phone: 202 720-3252.

RIN: 0581-AD75

BILLING CODE 3410-02-P

DEPARTMENT OF AGRICULTURE (USDA)

Animal and Plant Health Inspection Service (APHIS)

Proposed Rule Stage

10. • Branding Requirements for Bovines Imported Into the United States From Mexico

E.O. 13771 Designation: Deregulatory.

Legal Authority: 7 U.S.C. 1622; 7 U.S.C. 8301 to 8317; 21 U.S.C. 136 and 136a; 31 U.S.C. 9701

Abstract: This rulemaking would amend the regulations regarding the branding of bovines imported into the United States from Mexico. We are taking this action at the request of the Government of Mexico to address issues that have arisen with the branding requirement for these bovines. The changes we are proposing would help prevent inconsistencies in branding that can result in bovines being rejected for import into the United States.

Timetable:

Action | Date | FR Cite
NPRM | 04/12/18 | 83 FR 15756
NPRM Comment Period End | 06/11/18 |

Regulatory Flexibility Analysis Required: Yes.

Agency Contact: Betzaida Lopez, Senior Staff Veterinarian, National Import Export Services, VS, Department of Agriculture, Animal and Plant Health Inspection Service, 4700 River Road, Unit 39, Riverdale, MD 20737, Phone: 301 851-3300.

RIN: 0579-AE38

11. • Removal of Emerald Ash Borer Domestic Quarantine Regulations

E.O. 13771 Designation: Deregulatory.

Legal Authority: 7 U.S.C. 7701 to 7772; 7 U.S.C. 7781 to 7786

Abstract: This rulemaking would remove the domestic quarantine regulations for the plant pest emerald ash borer. This action would discontinue the domestic regulatory component of the emerald ash borer program as a means to more effectively direct available resources toward management and containment of the pest. Funding previously allocated to the implementation and enforcement of these domestic quarantine regulations would instead be directed to a non-regulatory option of research into, and deployment of, biological control agents for emerald ash borer, which would serve as the primary tool to mitigate and control the pest.

Timetable:

Action | Date | FR Cite
NPRM | 07/00/18 |

Regulatory Flexibility Analysis Required: Yes.

Agency Contact: Robyn Rose, National Policy Manager, PPQ, Department of Agriculture, Animal and Plant Health Inspection Service, 4700 River Road, Unit 26, Riverdale, MD 20737-1231, Phone: 301 851-2283.

RIN: 0579-AE42

DEPARTMENT OF AGRICULTURE (USDA)

Animal and Plant Health Inspection Service (APHIS)

Final Rule Stage

12. Plant Pest Regulations; Update of General Provisions

E.O. 13771 Designation: Deregulatory.

Legal Authority: 7 U.S.C. 450; 7 U.S.C. 2260; 7 U.S.C. 7701 to 7772; 7 U.S.C. 7781 to 7786; 7 U.S.C. 8301 to 8817; 21 U.S.C. 111; 21 U.S.C. 114a; 21 U.S.C. 136 and 136a; 31 U.S.C. 9701; 42 U.S.C. 4331 and 4332

Abstract: We are revising our regulations regarding the movement of plant pests. We are establishing criteria regarding the movement and environmental release of biological control organisms, and establishing regulations to allow the importation and movement in interstate commerce of certain types of plant pests without restriction by granting exceptions from permitting requirements for those pests. We are also revising our regulations regarding the movement of soil. This action clarifies the factors that would be considered when assessing the risks associated with the movement of certain organisms and facilitates the movement of regulated organisms and articles in a manner that also protects U.S. agriculture.

Timetable:

Action | Date | FR Cite
Notice of Intent To Prepare an Environmental Impact Statement | 10/20/09 | 74 FR 53673
Notice Comment Period End | 11/19/09 |
NPRM | 01/19/17 | 82 FR 6980
NPRM Comment Period Extended | 02/13/17 | 82 FR 10444
NPRM Comment Period End | 04/19/17 |
Final Rule | 09/00/18 |

Regulatory Flexibility Analysis Required: Yes.

Agency Contact: Colin Stewart, Assistant Director, Pests, Pathogens, and Biocontrol Permits, PPQ, Department of Agriculture, Animal and Plant Health Inspection Service, 4700 River Road, Unit 133, Riverdale, MD 20737-1236, Phone: 301 851-2237.

RIN: 0579-AC98

13. Bovine Spongiform Encephalopathy and Scrapie; Importation of Small Ruminants and Their Germplasm, Products, and Byproducts

E.O. 13771 Designation: Deregulatory.

Legal Authority: 7 U.S.C. 450; 7 U.S.C. 1622; 7 U.S.C. 7701 to 7772; 7 U.S.C. 7781 to 7786; 7 U.S.C. 8301 to 8317; 21 U.S.C. 136 and 136a; 31 U.S.C. 9701

Abstract: This rulemaking amends the bovine spongiform encephalopathy (BSE) and scrapie regulations regarding the importation of live sheep, goats, and wild ruminants and their embryos, semen, products, and byproducts. The scrapie revisions regarding the importation of sheep, goats, and susceptible wild ruminants for other than immediate slaughter are similar to those recommended by the World Organization for Animal Health in restricting the importation of such animals to those from scrapie-free regions or certified scrapie-free flocks.

Timetable:

Action | Date | FR Cite
NPRM | 07/18/16 | 81 FR 46619
NPRM Comment Period End | 09/16/16 |
Final Rule | 07/00/18 |

Regulatory Flexibility Analysis Required: Yes.

Agency Contact: Alexandra MacKenzie, Veterinary Medical Officer, Animal Permitting and Negotiating Services, NIES, VS, Department of Agriculture, Animal and Plant Health Inspection Service, 4700 River Road, Unit 39, Riverdale, MD 20737, Phone: 301 851-3300.

RIN: 0579-AD10

14. Establishing a Performance Standard for Authorizing the Importation and Interstate Movement of Fruits and Vegetables

E.O. 13771 Designation: Deregulatory.

Legal Authority: 7 U.S.C. 450; 7 U.S.C. 7701 to 7772; 7 U.S.C. 7781 to 7786; 21 U.S.C. 136 and 136(a)

Abstract: This rulemaking will amend our regulations governing the importations of fruits and vegetables by broadening our existing performance standard to provide for consideration of all new fruits and vegetables for importation into the United States using a notice-based process. Rather than authorizing new imports through proposed and final rules and specifying import conditions in the regulations, the notice-based process uses Federal Register notices to make risk analyses available to the public for review and comment, with authorized commodities and their conditions of entry subsequently being listed on the internet. It also will remove the region- or commodity-specific phytosanitary requirements currently found in these regulations. Likewise, we are proposing an equivalent revision of the performance standard in our regulations governing the interstate movements of fruits and vegetables from Hawaii and the U.S. territories (Guam, Northern Mariana Islands, Puerto Rico, and the U.S. Virgin Islands) and the removal of commodity-specific phytosanitary requirements from those regulations. This action will allow for the consideration of requests to authorize the importation or interstate movement of new fruits and vegetables in a manner that enables a more flexible and responsive regulatory approach to evolving pest situations in both the United States and exporting countries. It will not, however, alter the science-based process in which the risk associated with importation or interstate movement of a given fruit or vegetable is evaluated or the manner in which risks associated with the importation or interstate movement of a fruit or vegetable are mitigated.

Timetable:

Action | Date | FR Cite
NPRM | 09/09/14 | 79 FR 53346
NPRM Comment Period End | 11/10/14 |
NPRM Comment Period Reopened | 12/04/14 | 79 FR 71973
NPRM Comment Period End | 01/09/15 |
NPRM Comment Period Reopened | 02/06/15 | 80 FR 6665
NPRM Comment Period End | 03/10/15 |
Final Rule | 07/00/18 |

Regulatory Flexibility Analysis Required: Yes.

Agency Contact: Nicole Russo, Assistant Director, Regulatory Coordination and Compliance, PPQ, Department of Agriculture, Animal and Plant Health Inspection Service, 4700 River Road, Unit 133, Riverdale, MD 20737-1236, Phone: 301 851-2159.

RIN: 0579-AD71

15. Importation of Fresh Citrus Fruit From the Republic of South Africa Into the Continental United States

E.O. 13771 Designation: Deregulatory.

Legal Authority: 7 U.S.C. 450; 7 U.S.C. 7701 to 7772; 7 U.S.C. 7781 to 7786; 21 U.S.C. 136 and 136a

Abstract: This rulemaking will amend the fruits and vegetables regulations to allow the importation of several varieties of fresh citrus fruit, as well as citrus hybrids, into the continental United States from areas in the Republic of South Africa where citrus black spot has been known to occur. As a condition of entry, the fruit will have to be produced in accordance with a systems approach that includes shipment traceability, packinghouse registration and procedures, and phytosanitary treatment. The fruit will also be required to be imported in commercial consignments and accompanied by a phytosanitary certificate issued by the national plant protection organization of the Republic of South Africa with an additional declaration confirming that the fruit has been produced in accordance with the systems approach. This action will allow for the importation of fresh citrus fruit, including citrus hybrids, from the Republic of South Africa while continuing to provide protection against the introduction of plant pests into the United States.

Timetable:

Action | Date | FR Cite
NPRM | 08/28/14 | 79 FR 51273
NPRM Comment Period End | 10/27/14 |
Final Rule | 09/00/18 |

Regulatory Flexibility Analysis Required: Yes.

Agency Contact: Marc Phillips, Senior Regulatory Policy Specialist, Regulatory Coordination and Compliance, PPQ, Department of Agriculture, Animal and Plant Health Inspection Service, 4700 River Road, Unit 133, Riverdale, MD 20737-1231, Phone: 301 851-2114.

RIN: 0579-AD95

16. Animal Welfare; Establishing De Minimis Exemptions From Licensing

E.O. 13771 Designation: Deregulatory.

Legal Authority: 7 U.S.C. 2131 to 2159

Abstract: In the 2014 Farm Bill, Congress amended the Animal Welfare Act (AWA) to provide the Secretary of Agriculture with the authority to determine what facilities and activities involving AWA-regulated animals are de minimis and therefore exempt from licensure and oversight. We are amending the AWA regulations to enact this new provision. This change provides APHIS with the flexibility to exempt from licensing those dealers and exhibitors who provide adequate levels of humane care to their animals, allowing us to target our enforcement resources where they are most needed. Dealers and exhibitors operating at or below the threshold will be exempted from APHIS licensing and oversight under the AWA.

Timetable:

Action | Date | FR Cite
NPRM | 08/04/16 | 81 FR 51386
NPRM Comment Period End | 11/02/16 |
Final Rule | 06/00/18 |

Regulatory Flexibility Analysis Required: Yes.

Agency Contact: Kay Carter-Corker, Director, National Policy Staff, Animal Care, Department of Agriculture, Animal and Plant Health Inspection Service, 4700 River Road, Unit 84, Riverdale, MD 20737, Phone: 301 851-3748.

RIN: 0579-AD99

17. VSTA Records and Reports Specific to International Standards for Pharmacovigilance

E.O. 13771 Designation: Not subject to, not significant.

Legal Authority: 21 U.S.C. 151 to 159

Abstract: This rulemaking will amend the Virus-Serum-Toxin Act regulations concerning records and reports. This change requires veterinary biologics licensees and permittees to record and submit reports concerning adverse events associated with the use of biological products they produce or distribute. The information that must be included in the adverse event reports submitted to the Animal and Plant Health Inspection Service will be provided in separate guidance documents. These records and reports will help ensure that APHIS can provide complete and accurate information to consumers regarding adverse reactions or other problems associated with the use of licensed biological products.

Timetable:

Action | Date | FR Cite
NPRM | 09/04/15 | 80 FR 53475
NPRM Comment Period End | 11/03/15 |
Final Rule | 06/00/18 |

Regulatory Flexibility Analysis Required: Yes.

Agency Contact: Donna L. Malloy, Operational Support Section, Center for Veterinary Biologics, Policy, Evaluation, and Licensing, VS, Department of Agriculture, Animal and Plant Health Inspection Service, 4700 River Road, Unit 148, Riverdale, MD 20737-1231, Phone: 301 851-3426.

RIN: 0579-AE11

18. Conditions for Payment of Highly Pathogenic Avian Influenza Indemnity Claims

E.O. 13771 Designation: Other.

Legal Authority: 7 U.S.C. 8301 to 8317

Abstract: We are adopting as a final rule, with changes, an interim rule that amended the regulations pertaining to certain diseases of livestock and poultry to specify conditions for payment of indemnity claims for highly pathogenic avian influenza (HPAI). The interim rule provided a formula allowing us to split such payments between poultry and egg owners and parties with which the owners enter into contracts to raise or care for the eggs or poultry based on the proportion of the production cycle completed. That action was necessary to ensure that all contractors are compensated appropriately. The interim rule also clarified an existing policy regarding the payment of indemnity for eggs destroyed due to HPAI and required a statement from owners and contractors, unless specifically exempted, indicating that at the time of detection of HPAI in their facilities, they had in place and were following a biosecurity plan aimed at keeping HPAI from spreading to commercial premises.

Timetable:

Action | Date | FR Cite
Interim Final Rule | 02/09/16 | 81 FR 6745
Interim Final Rule Effective | 02/09/16 |
Interim Final Rule Comment Period End | 04/11/16 |
Final Rule | 10/00/18 |

Regulatory Flexibility Analysis Required: Yes.

Agency Contact: Troy Bigelow, Senior Staff Veterinarian, Surveillance, Preparedness and Response Services, VS, Department of Agriculture, Animal and Plant Health Inspection Service, Federal Building, Room 891, 210 Walnut Street, Des Moines, IA 50309, Phone: 515 284-4121.

RIN: 0579-AE14

DEPARTMENT OF AGRICULTURE (USDA)

Animal and Plant Health Inspection Service (APHIS)

Completed Actions

19. Restructuring of Regulations on the Importation of Plants for Planting

E.O. 13771 Designation: Deregulatory.

Legal Authority: 7 U.S.C. 450; 7 U.S.C. 7701 to 7772; 7 U.S.C. 7781 to 7786; 21 U.S.C. 136 and 136a; 31 U.S.C. 9701

Abstract: We are consolidating the regulations governing the importation of all plants for planting under the “plants for planting” regulations and adding prohibited plants for planting to the list of plants whose importation is not authorized pending pest risk analysis. This consolidation will move restrictions on the importation of specific types of plants for planting from the regulations to the Plants for Planting Manual (PPM). Under the rule, changes to these restrictions will be made after taking public comment on notices published in the Federal Register, rather than through proposed rules and final rules as we currently do. As part of this consolidation, we are removing several lists of approved items (for example, the lists of approved growing media, packing materials, and ports of entry) from the regulations; these lists will be provided to the public in the PPM. We proposed to update these lists, when necessary, using the same sort of notice-based process as will be used to update restrictions on specific types of plants for planting. We are also establishing a framework for the use of integrated pest risk management measures (IPRMS) in the production of specific types of plants for planting for importation into the United States, when the pest risk associated with the importation of a type of plants for planting can only be addressed through the use of integrated measures. This action does not make any major changes to the restrictions that currently apply to the importation of plants for planting. These changes will make restrictions on the importation of specific types of plants for planting easier for readers to find and allow us to more easily make changes.

Completed:

Reason | Date | FR Cite
Final Rule | 03/19/18 | 83 FR 11845
Final Rule Effective | 04/18/18 |

Regulatory Flexibility Analysis Required: Yes.

Agency Contact: Shailaja Rabindran, Phone: 301 851-2167.

RIN: 0579-AD75

20. Importation of Campanula Spp. Plants for Planting in Approved Growing Media From Denmark to the United States

E.O. 13771 Designation: Deregulatory.

Legal Authority: 7 U.S.C. 450; 7 U.S.C. 7701 to 7772; 7 U.S.C. 7781 to 7786; 21 U.S.C. 136 and 136a

Abstract: This rulemaking will amend the regulations governing the importation of plants for planting to authorize the importation of Campanula spp. plants for planting from Denmark in approved growing media into the United States, subject to a systems approach. The systems approach will consist of measures that are currently specified in the regulations as generally applicable to all plants for planting authorized importation into the United States in approved growing media. This action will allow for the importation of Campanula spp. plants for planting from Denmark in approved growing media, while providing protection against the introduction of plant pests.

Completed:

Reason | Date | FR Cite
Final Rule | 03/15/18 | 83 FR 11395
Final Rule Effective | 04/16/18 |

Regulatory Flexibility Analysis Required: Yes.

Agency Contact: Narasimha Samboju, Phone: 301 851-2038.

RIN: 0579-AE31

BILLING CODE 3410-34-P

DEPARTMENT OF AGRICULTURE (USDA)

Food Safety and Inspection Service (FSIS)

Final Rule Stage

21. Elimination of Trichina Control Regulations and Consolidation of Thermally Processed, Commercially Sterile Regulations

E.O. 13771 Designation: Deregulatory.

Legal Authority: 21 U.S.C. 601 et seq.; 21 U.S.C. 451 et seq.

Abstract: The Food Safety and Inspection Service (FSIS) proposed to amend the Federal meat inspection regulations to eliminate the requirements for both ready-to-eat (RTE) and not-ready-to-eat (NRTE) pork and pork products to be treated to destroy trichina (Trichinella spiralis) because the regulations are inconsistent with the Hazard Analysis and Critical Control Point (HACCP) regulations, and these prescriptive regulations are no longer necessary.

Timetable:

Action | Date | FR Cite
NPRM | 03/28/16 | 81 FR 17337
NPRM Comment Period End | 06/27/16 |
Final Action | 05/00/18 |

Regulatory Flexibility Analysis Required: Yes.

Agency Contact: Matthew Michael, Director, Issuances Staff, Department of Agriculture, Food Safety and Inspection Service, Office of Policy and Program Development, 1400 Independence Avenue SW, Washington, DC 20250-3700, Phone: 202 720-0345, Fax: 202 690-0486, Email: matthew.michael@fsis.usda.gov.

RIN: 0583-AD59

[FR Doc. 2018-11232 Filed 6-8-18; 8:45 am]

BILLING CODE 3410-DM-P